DEPARTMENT OF HOUSING AND URBAN DEVELOPMENT

[Docket No. FR-4907-N-14]

Notice of Proposed Information Collection: Comment Request; HUD Conditional Commitment/Direct Enforcement Statement of Appraised Value

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: June 21, 2004.

ADDRESSES: Interested persons are invited to submit comments regarding this proposal. Comments should refer to the proposal by name and/or OMB Control Number and should be sent to: Wayne Eddins, Reports Management Officer, Department of Housing and Urban Development, 451 7th Street, SW., L'Enfant Plaza Building, Room P8003, Washington, DC 20410 or Wayne_Eddins@hud.gov.

FOR FURTHER INFORMATION CONTACT: Vance T. Morris, Director, Office of Single Family Program Development, Department of Housing and Urban Development, 451 7th Street SW., Washington, DC 20410, telephone (202) 708-1142 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: HUD Conditional Commitment/Direct Enforcement Statement of Appraised Value.

OMB Control Number, if applicable: 2502-0494.

Description of the need for the information and proposed use: This request for OMB review involves a reinstatement of a previously approved information collection, Form HUD 29800.5B, Conditional Commitment/Direct Enforcement Statement of Appraised Value (OMB control number 2502-0494). Section 203 of the National Housing Act (Pub. L. 479, 48 Stat. 1256, 12 U.S.C. 1701 et seq.) authorizes the Secretary of the Department of Housing and Urban Development to insure mortgages on single-family homes, including proposed and existing construction, when requested by FHA approved mortgagees. Form HUD 92800.5B serves as the mortgagee's conditional commitment/direct endorsement of FHA mortgage insurance on the property. The form provides for a statement of the property's appraised value and other required FHA disclosures to the homebuyer, including specific conditions that must be met before HUD can endorse a firm commitment for mortgage insurance.

Agency form numbers, if applicable: HUD-92800.5B.

Estimation of the total numbers of hours needed to prepare the information collection including number of respondents, frequency of response, and hours of response: The estimated number of burden hours needed to prepare the information collection is 140,000 hours; the number of respondents is 1,200,000 generating approximately 1,200,000 annual responses; the frequency of response is on occasion; and the estimated time needed to prepare the response .12 hours per response.

Status of the proposed information collection: Reinstatement, with change, of previously approved collection for which approval will expire on June 30, 2004.

Authority: The Paperwork Reduction Act of 1995, 44 U.S.C., Chapter 35, as amended.

Dated: April 14, 2004.
Sean G. Cassidy,
General Deputy Assistant Secretary for Housing-Deputy Federal Housing Commissioner.

[FR Doc. 04-9082 Filed 4-21-04; 8:45 am]

BILLING CODE 4210-27-M